SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: August 1-31, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f):

1. Carrizo (Marcellus), LLC, Pad ID: Henninger Pad, ABR-201110017.R1, Jessup Township, Susquehanna County, Pa.; Consumptive Use of Up to 2.1000 mgd; Approval Date: August 5, 2016.

2. Samson Exploration, LLC, Pad ID: Pardee & Curtin Lumber Co. C-17H, ABR-20110816.R1, Shippen Township, Cameron County, Pa.; Consumptive Use of Up to 5.0000 mgd; Approval Date: August 5, 2016.

3. JKLM Energy, LLC, Pad ID: Headwaters 145, ABR-201608001, Ulysses Township, Potter County, Pa.; Consumptive Use of Up to 3.1250 mgd; Approval Date: August 9, 2016.

4. SWEPI LP, Pad ID: Youst 405, ABR-201106026.R1, Jackson Township, Tioga County, Pa.; Consumptive Use of Up to 4.0000 mgd; Approval Date: August 9, 2016.

5. SWEPI LP, Pad ID: Watkins 820, ABR-201106011.R1, Chatham Township, Tioga County, Pa.; Consumptive Use of Up to 4.0000 mgd; Approval Date: August 10, 2016.

6. Talisman Energy USA Inc., Pad ID: 05 235 Rogers H, ABR-201108051.R1, Windham Township, Bradford County, Pa.; Consumptive Use of Up to 6.0000 mgd; Approval Date: August 10, 2016.

7. Chesapeake Appalachia, LLC, Pad ID: Dewolf, ABR-201608002, Windham Township, Wyoming County, Pa.; Consumptive Use of Up to 7.5000 mgd; Approval Date: August 11, 2016.

8. Chesapeake Appalachia, LLC, Pad ID: Cook, ABR-201111001.R1, Rush Township, Susquehanna County, Pa.; Consumptive Use of Up to 7.5000 mgd; Approval Date: August 11, 2016.

9. Chesapeake Appalachia, LLC, Pad ID: Richard, ABR-201111010.R1, Rush Township, Susquehanna County, Pa.; Consumptive Use of Up to 7.5000 mgd; Approval Date: August 11, 2016.

10. SWN Production Company, LLC, Pad ID: Clark Pad, ABR-201107043.R1, Orwell and Herrick Townships, Bradford County, Pa.; Consumptive Use of Up to 4.9900 mgd; Approval Date: August 11, 2016.

11. Talisman Energy USA Inc., Pad ID: 02 109 Frederick L, ABR-201108046.R1, Hamilton Township, Tioga County, Pa.; Consumptive Use of Up to 6.0000 mgd; Approval Date: August 12, 2016.

12. Talisman Energy USA Inc., Pad ID: 05 174 Carlsen C, ABR-201108052.R1, Windham Township, Bradford County, Pa.; Consumptive Use of Up to 6.0000 mgd; Approval Date: August 12, 2016.

13. Chief Oil & Gas LLC, Pad ID: Myers Unit Drilling Pad #1, ABR-201201039.R1, Burlington Township, Bradford County, Pa.; Consumptive Use of Up to 2.0000 mgd; Approval Date: August 18, 2016.

14. Chief Oil & Gas LLC, Pad ID: Crandall Drilling Pad #1, ABR-201202013.R1, Ridgebury Township, Bradford County, Pa.; Consumptive Use of Up to 2.0000 mgd; Approval Date: August 18, 2016.

15. Chesapeake Appalachia, LLC, Pad ID: Burkhart, ABR-201201028.R1, Forks Township, Sullivan County, Pa.; Consumptive Use of Up to 7.5000 mgd; Approval Date: August 19, 2016.

16. Chesapeake Appalachia, LLC, Pad ID: Warburton, ABR-201201033.R1, Forks Township, Sullivan County, Pa.; Consumptive Use of Up to 7.5000 mgd; Approval Date: August 19, 2016.

17. Chesapeake Appalachia, LLC, Pad ID: Makayla, ABR-201202008.R1, Wilmot Township, Bradford County, Pa.; Consumptive Use of Up to 7.5000 mgd; Approval Date: August 19, 2016.

18. Chesapeake Appalachia, LLC, Pad ID: Yadpad, ABR-201202020.R1, Wilmot Township, Bradford County, Pa.; Consumptive Use of Up to 7.5000 mgd; Approval Date: August 19, 2016.

19. Chief Oil & Gas LLC, Pad ID: Hurley Drilling Pad #1, ABR-201201040.R1, Cherry Township, Sullivan County, Pa.; Consumptive Use of Up to 2.0000 mgd; Approval Date: August 19, 2016.

20. Chief Oil & Gas LLC, Pad ID: Wright A Drilling Pad #1, ABR-201202004.R1, Canton Township, Bradford County, Pa.; Consumptive Use of Up to 2.0000 mgd; Approval Date: August 19, 2016.

21. Chief Oil & Gas LLC, Pad ID: Castle A Drilling Pad #1, ABR-201202012.R1, Canton Township, Bradford County, Pa.; Consumptive Use of Up to 2.0000 mgd; Approval Date: August 19, 2016.

22. Warren Marcellus, LLC, Pad ID: Macialek 1 Pad, ABR-201201010.R1, Washington Township, Wyoming County, Pa.; Consumptive Use of Up to 5.0000 mgd; Approval Date: August 19, 2016.

23. Anadarko E&P Onshore, LLC, Pad ID: Lycoming H&FC Pad C, ABR-201109003.R1, Cogan House Township, Lycoming County, Pa.; Consumptive Use of Up to 4.0000 mgd; Approval Date: August 23, 2016.

24. Anadarko E&P Onshore, LLC, Pad ID: COP Tract 731 Pad C, ABR-201109016.R1, Cummings Township, Lycoming County, Pa.; Consumptive Use of Up to 4.0000 mgd; Approval Date: August 23, 2016.

25. Anadarko E&P Onshore, LLC, Pad ID: COP Tract 731 Pad D, ABR-201109017.R1, Cummings Township, Lycoming County, Pa.; Consumptive Use of Up to 4.0000 mgd; Approval Date: August 23, 2016.

26. Anadarko E&P Onshore, LLC, Pad ID: COP Tract 731 Pad E, ABR-201109021.R1, Cummings Township, Lycoming County, Pa.; Consumptive Use of Up to 4.0000 mgd; Approval Date: August 23, 2016.

27. Anadarko E&P Onshore, LLC, Pad ID: COP Tract 685 Pad B, ABR-201109022.R1, Cummings Township, Lycoming County, Pa.; Consumptive Use of Up to 4.0000 mgd; Approval Date: August 23, 2016.

28. Anadarko E&P Onshore, LLC, Pad ID: Lycoming H&FC Pad A, ABR-201109023.R1, Cogan House Township, Lycoming County, Pa.; Consumptive Use of Up to 4.0000 mgd; Approval Date: August 23, 2016.

29. Anadarko E&P Onshore, LLC, Pad ID: Lycoming H&FC Pad D, ABR-201109024.R1, Cogan House Township, Lycoming County, Pa.; Consumptive Use of Up to 4.0000 mgd; Approval Date: August 23, 2016.

30. Cabot Oil & Gas Corporation, Pad ID: HeitzenroderA P1, ABR-201109025.R1, Springville Township, Susquehanna County, Pa.; Consumptive Use of Up to 3.5750 mgd; Approval Date: August 23, 2016.

31. Cabot Oil & Gas Corporation, Pad ID: BurtsL P1, ABR-201109026.R1, Forest Lake Township, Susquehanna County, Pa.; Consumptive Use of Up to 3.5750 mgd; Approval Date: August 23, 2016.

32. Cabot Oil & Gas Corporation, Pad ID: FrystakC P1, ABR-201109027.R1, Bridgewater Township, Susquehanna County, Pa.; Consumptive Use of Up to 3.5750 mgd; Approval Date: August 23, 2016.

33. Chesapeake Appalachia, LLC, Pad ID: Fox, ABR-201201007.R1, Mehoopany Township, Wyoming County, Pa.; Consumptive Use of Up to 7.5000 mgd; Approval Date: August 23, 2016.

34. Chesapeake Appalachia, LLC, Pad ID: Ferraro, ABR-201202007.R1, Terry Township, Bradford County, Pa.; Consumptive Use of Up to 7.5000 mgd; Approval Date: August 23, 2016.

35. Carrizo (Marcellus), LLC, Pad ID: Karthaus CK-19, ABR-201112012.R1, Covington Township, Clearfield County, Pa.; Consumptive Use of Up to 2.1000 mgd; Approval Date: August 29, 2016.

36. SWN Production Company, LLC, Pad ID: Bernstein Pad, ABR-201107052.R1, Clifford and Lenox Townships, Susquehanna County, Pa.; Consumptive Use of Up to 4.9900 mgd; Approval Date: August 31, 2016.

Authority: Pub. L. 91-575, 84 Stat. 1509 et seq., 18 CFR parts 806, 807, and 808.

Dated: September 22, 2016.
Stephanie L. Richardson,
Secretary to the Commission.

[FR Doc. 2016-23248 Filed 9-26-16; 8:45 am]

BILLING CODE 7040-01-P